ENVIRONMENTAL PROTECTION AGENCY

40 CFR Part 52

[EPA-R06-OAR-2016-0550; FRL-9962-20-Region 6]

Approval and Promulgation of Implementation Plans; Texas; El Paso Carbon Monoxide Limited Maintenance Plan

AGENCY: Environmental Protection Agency (EPA).

ACTION: Withdrawal of direct final rule.

SUMMARY: The Environmental Protection Agency (EPA) is withdrawing a direct final rule published on March 21, 2017 because a relevant adverse comment was received. The rule pertained to EPA approval of the required second carbon monoxide (CO) maintenance plan for the El Paso, Texas CO maintenance area as a revision to the Texas State Implementation Plan (SIP). In a separate subsequent final rulemaking EPA will address the comment received.

DATES: The direct final rule published on March 21, 2017 (82 FR 14442), is withdrawn effective May 22, 2017.

FOR FURTHER INFORMATION CONTACT: Jeffrey Riley, 214-665-8542, riley.jeffrey@epa.gov.

SUPPLEMENTARY INFORMATION: Throughout this document “we,” “us,” and “our” means the EPA. On March 21, 2017 we published a direct final rule approving the required second CO maintenance plan for the El Paso, Texas CO maintenance area as a revision to the Texas SIP (82 FR 14442). The direct final rule was published without prior proposal because we anticipated no adverse comments. We stated in the direct final rule that if we received relevant adverse comments by April 20, 2017, we would publish a timely withdrawal in the Federal Register. We received a relevant adverse comment and accordingly are withdrawing the direct final rule. In a separate subsequent final rulemaking we will address the comment received.

List of Subjects in 40 CFR Part 52

Environmental protection, Air pollution control, Carbon monoxide, Incorporation by reference, Intergovernmental relations, Reporting and recordkeeping requirements.

Dated: May 17, 2017.
Samuel Coleman,
Acting Regional Administrator, Region 6.

Accordingly, the amendments to 40 CFR 52.2270(e) published in the Federal Register on March 21, 2017 (82 FR 14442), which were to become effective on May 22, 2017, are withdrawn.

[FR Doc. 2017-10486 Filed 5-19-17; 8:45 am]

BILLING CODE 6560-50-P